FEDERAL COMMUNICATIONS COMMISSION

Notice of Public Information Collection(s) Being Reviewed by the Federal Communications Commission, Comments Requested; Correction

AGENCY: Federal Communications Commission.

ACTION: Notice; correction.

SUMMARY: The Federal Communications Commission published a document in the Federal Register on November 30, 2009 concerning a request for comment on an information collection that is going to be submitted to the Office of Management and Budget (OMB). The document had an error in the DATES section of the notice.

FOR FURTHER INFORMATION CONTACT: For additional information, contact Judith B. Herman at 202-418-0214 or via the Internet at Judith-B.Herman@fcc.gov.

Correction

In the Federal Register of November 30, 2009, in FR Doc. E9-28460, on page 62570, in the second column, correct the DATES caption to read:

DATES: Persons wishing to comment on this information collection should submit comments on or before January 29, 2010. If you anticipate that you will be submitting comments, but find it difficult to do so within the period of time allowed by this notice, you should advise the contact listed below as soon as possible.

Federal Communications Commission.
Marlene H. Dortch,
Secretary.

[FR Doc. E9-29817 Filed 12-14-09; 8:45 am]

BILLING CODE 6712-01-P